DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) The necessity of the proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: The National Health Service Corps Loan Repayment Program (OMB No. 0915-0127)—Extension

The National Health Service Corps (NHSC) Loan Repayment Program (LRP) was established to assure an adequate supply of trained primary care health care professionals to provide services in the neediest Health Professional Shortage Areas (HPSAs) of the United States. Under this program, the Department of Health and Human Services agrees to repay the educational loans of the primary care health professionals. In return, the health professionals agree to serve for a specified period of time in a federally-designated HPSA approved by the Secretary for LRP participants.

The NHSC LRP forms provide information that is needed for selecting participants and repaying qualifying loans for education. The LRP forms include the following: The NHSC LRP Application, the Loan Information and Verification form, the Community Site Information form, the Request for Method of Advanced Loan Repayment form, the Applicant Checklist, the Payment Information form, and the Authorization to Release Information form.

The estimated annual burden is as follows:

Type of form | Number of respondents | Responses per respondent | Total number of responses | Hours per response | Total burden hours
NHSC LRP Application | 1920 | 1 | 1920 | .5 | 960
Community Site Information form | 1920 | 1 | 1920 | .25 | 480
Loan Information and Verification form | 1920 | 3 | 5760 | .25 | 1440
Authorization to Release Information | 1920 | 1 | 1920 | .1 | 192
Applicant Checklist | 1920 | 1 | 1920 | .2 | 384
Lenders | 80 | 1 | 80 | .25 | 20
Total | 2000 |  | 13520 |  | 3476

Send comments to Susan G. Queen, PhD, HRSA Reports Clearance Officer, Room 10-33, Parklawn Building, 5600 Fishers Lane, Rockville, MD 20857. Written comments should be received within 60 days of this notice.

Dated: April 16, 2007.
Caroline Lewis,
Acting Associate Administrator for Administration and Financial Management.

[FR Doc. E7-7762 Filed 4-23-07; 8:45 am]

BILLING CODE 4165-15-P